DEPARTMENT OF ENERGY

Federal Energy Regulatory Commission

[Docket No. EL05-82-000]

Alliant Energy Corporation Services, Inc., Complainant, v. Midwest Independent Transmission System Operator, Inc., Respondent; Notice of Complaint Fast Track

March 29, 2005.

Take notice that on March 28, 2005, Alliant Energy Corporate Services, Inc. (Alliant Energy), filed with the Federal Energy Regulatory Commission a Complaint Requesting Fast Track Processing against Midwest Independent Transmission System Operator, Inc. (Midwest ISO), to seek relief from Midwest ISO's failure to allocate certain Financial Transmission Rights.

Alliant Energy states that copies of the complaint were served on Midwest ISO.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protest must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on April 18, 2005.

Linda Mitry,
Deputy Secretary.

[FR Doc. E5-1485 Filed 4-1-05; 8:45 am]

BILLING CODE 6717-01-P